DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) issued during the period of July and August 2003.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

A. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following case, the investigation revealed that the criteria for eligibility have not been met for the reasons specified.

The investigation revealed that criterion (a)(2)(A)(I.C.) (Increased imports) and (a)(2)(B)(II.B) (No shift in production to a foreign country) have not been met.

TA-W-52,259; The Bindery, Inc., Cambridge, MN

TA-W-52,284; Fisher Pierce, Weymouth, MA

TA-W-52,123; Honeywell International, Specialty Materials, Birmingham, AL

TA-W-51,536; State of Alaska Commercial Fisheries Entry Commission Permit #S04K6143901

TA-W-52,083; Sweet Orr and Company, Madison, GA

TA-W-52,103; MR Dowel, Inc., Rumford, ME

TA-W-52,106; Better Methods Alexander, Inc., a wholly owned subsidiary of BMI Holdings, Inc., Paterson, NJ

TA-W-52,133; Auburn Machinery, Inc., Lewistown, ME

TA-W-52,148; Coho Resources, Inc., Dallas, TX

The workers firm does not produce an article as required for certification under Section 222 of the Trade Act of 1974.

TA-W-52,393; Keane, Inc., Cypress, CA

TA-W-52,322; deMarco California Fabrics, Inc., New York, NY

TA-W-52,313; Convergys Customer Management Group, Inc., Orem, UT

TA-W-52,160; AT&T Corporation, Pleasanton, CA

TA-W-52,082; Computer Sciences Corporation, workers employed at Pratt & Whitney, West Palm Beach, FL

TA-W-52,395; Cross Consulting Group, Inc., d/b/a Cross USA,Watford City, ND

TA-W-52,367; Honeywell, Millinocket, ME

TA-W-52,352; Computer Services Corporation, Financial Services Group, Austin, TX

TA-W-52,164; Castrol Industrial North America, Inc., Duluth, MN

TA-W-51,173; Ericsson, Inc., Brea, CA

The investigation revealed that criteria (a)(2)(A)(I.A) (no employment declines) have not been met.

TA-W-52,042; Wheatland Tube Co., Div. of The John Maneely Co., Sharon, PA

TA-W-52,423; Fishing Vessel (F/V) Kayla Marie C., Old Harbor, AK

TA-W-52,107; Phillips Plastics Corp., Medical Molding and Assembly, Menomonee, WI, A; Multi-Shot, Eau Claire, WI, B; Precision Decorating, Medford, WI, C; Short Run Solutions, New Richmond, WI, D; Design Development Center, Hudson, WI, E; Design Development Center—West, Sunnyvale, CA, F; Operations Center, Eau Claire, WI, G; Technology Center, Prescott, WI, H; Detroit Field Sales, Farmingham Hills, MI

TA-W-52,158; CDI Corporation Northwest, employed at Hewlett-Packard, Imaging and Printing Group, Corvallis, OR

TA-W-52,233; Fishing Vessel (F/V) Western Queen, Burlington, WA

Affirmative Determinations for Worker Adjustment Assistance

The following certifications have been issued; the date following the company name and location of each determination references the impact date for all workers of such determination.

The following certifications have been issued. The requirements of (a)(2)(A) (increased imports) of section 222 have been met.

TA-W-52,426; Gretag Imaging, Inc., Englewood, CO: July 28, 2002.

TA-W-52,235; Honeywell Nylon, Inc., Anderson, SC: July 7, 2002.

TA-W-52,112; Hooker Furniture Corp., Kernersville, NC: June 20, 2002.

TA-W-52,100; Magneti Marelli, Kingsport, TN: June 19, 2002.

TA-W-52,346; George F. Adams Co., Inc., Moscow, VT: July 18, 2002.

TA-W-52,337; Kaba High Security Locks, a subsidiary of Kaba Corp., including leased workers from The Agentry and MJ Barlow Staffing Agencies, Southington, CT: July 16, 2002.

TA-W-52,257; Stoneville Furniture Acquisition, Inc., a/k/a Stoneville Furniture Co., Inc., including leased workers of AY Staffing, Stoneville, NC: July 9, 2002.

TA-W-52,231; Salisbury Sportswear, Inc., Salisbury, PA: July 2, 2002.

TA-W-52,136; Fairchild Semiconductor Corp., a subsidiary of Fairchild Semiconductor Int'l, Inc., South Portland, ME: June 9, 2002.

TA-W-52,029; Medway Plastics Corp., including leased workers of Stratus Personnel and Personnel Plus, Long Beach, CA: May 14, 2002.

TA-W-51,962; Vibratech, Inc., Alden, NY: June 3, 2002.

TA-W-51,840; Mastergear, South Beloit, IL: May 20, 2002.

TA-W-51,616; Chandler's, Portland, ME: April 14, 2002.

The following certifications have been issued. The requirements of (a)(2)(B) (shift in production) of Section 222 have been met.

TA-W-52,413; Honeywell International, Inc., Automation and Control Solutions-Sensing & Control, including leased workers of Manpower, Inc., Mars Hill, NC: July 21, 2002.

TA-W-52,368; Fasco Motors, Automotive Div., Hillsdale, MI: July 16, 2002.

TA-W-52,354 & A; Molex, Inc., Fiber Optics Div., Downers Grove, IL and Bolingbrook, IL: July 21, 2002.

TA-W-52,280; Stone County Ironworks, a/k/a Metal Arts, Inc., Mountain View, AR: May 6, 2002.

TA-W-52,461; Fishing Vessel (F/V) Alert, Veronia, OR: July 22, 2002.

TA-W-52,366; Marge Carson, Rosemead, CA: July 21, 2002.

TA-W-52,360; Coats North America, Coats American Sylvan Plant Div., Rosman, NC: July 18, 2002.

TA-W-52,351; Waterbury Companies, Inc., Randolph, VT: July 18, 2002.

TA-W-52,315; Murphy's Custom Canvas, Central Point, OR: July 14, 2002.

TA-W-52,312; Rotarex, Inc., North America, including Stopfill, Inc., Div. and Ceodux, Inc., Div. and including leased workers of Sperion (Ruggieri Enterprises), Manpower, Carol Harris Agency, and Select Personnel, Mt. Pleasant, PA: July 2, 2002.

TA-W-52,309; B.A.G. Corporation, Pennington Gap, VA: July 10, 2002.

TA-W-52,234; Kellwood Co., Menswear-Midwestern Div., Calhoun City, MS: June 26, 2002.

TA-W-52,219; Geo-Form, Inc., Girard, PA: June 20, 2002.

TA-W-52,170; Hill-Rom Co., Inc., a wholly owned subsidiary of Hill-Rom, Inc., a wholly owned subsidiary of Hillenbrand Industries, Batesville, IN: July 18, 2002.

TA-W-52,162; The Oilgear Co., Longview Div., Longview, TX: June 26, 2002.

TA-W-52,114; Kalpak USA, Hillside, NJ: May 23, 2002.

TA-W-52,011; Fishing Vessel (F/V) Nanesse, Skagway, AK: June 11, 2002.

The following certification has been issued. The requirement of upstream supplier to a trade certified primary firm has been met.

TA-W-52,317; Onamac Industries, Inc., Everett, WA: July 14, 2002.

I hereby certify that the aforementioned determinations were issued during the months of July and August. Copies of these determinations are available for inspection in Room C-5311, U.S. Department of Labor, 200 Constitution Avenue, NW., Washington, DC 20210 during normal business hours or will be mailed to persons who write to the above address.

Dated: August 8, 2003.
Linda G. Poole,
Acting Director, Division of Trade Adjustment Assistance.

[FR Doc. 03-21017 Filed 8-15-03; 8:45 am]

BILLING CODE 4510-30-P